DEPARTMENT OF ENERGY

Federal Energy Regulatory Commission

[Docket No. RP04-111-000]

Nautilus Pipeline Company, L.L.C.; Notice of Tariff Filing

December 24, 2003.

Take notice that on December 18, 2003 Nautilus Pipeline Company, L.L.C. (Nautilus) tendered for filing as part of its FERC Gas Tariff, Original Volume No. 1, the following tariff sheets, with a proposed effective date of January 1, 2004:

Fifth Revised Sheet No. 74

First Revised Sheet No. 298

Nautilus states it is filing the revised tariff sheets to reflect the change in definition of the receipt point located in St. Mary Parish, Louisiana as the result of Exxon's closure of its Garden City, Louisiana Plant and Meter No. 992204.

Nautilus states that a copy of this filing has been served upon its customers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E3-00680 Filed 12-31-03; 8:45 am]

BILLING CODE 6717-01-P